DEPARTMENT OF THE INTERIOR

Bureau of Land Management

[NM-030-1430-EU; NMNM 100778]

Recreation and Public Purposes (R&PP) Act Classification; Lease and Conveyance of Public Land in Sierra County, NM

AGENCY: Bureau of Land Management (BLM), Interior.

ACTION: Notice of realty action.

SUMMARY: This action informs the public that BLM has examined and found suitable approximately 5 acres of public land in Sierra County, New Mexico for lease or conveyance to the City of Elephant Butte under the provisions of the Recreation and Public Purposes (R&PP) Act.

DATES: Comments regarding the proposed lease/conveyance or classification must be submitted on or before February 18, 2005.

ADDRESSES: Comments should be sent to the BLM, Las Cruces Field Office, 1800 Marquess, Las Cruces, New Mexico 88005.

FOR FURTHER INFORMATION CONTACT: Lorraine Salas, Realty Specialist at the above address or by telephone at (505) 525-4388.

SUPPLEMENTARY INFORMATION: The following described public land in Sierra County, New Mexico has been examined and found suitable for classification for lease or conveyance to the City of Elephant Butte under the provisions of the R&PP Act; as amended (43 U.S.C. 869 et seq.). The land is hereby classified for use as a city operations center. In accordance with Section 7 of the Taylor Grazing Act, 43 U.S.C. 315f and Executive Order No. 6910, the described land is hereby classified suitable for lease or conveyance.

New Mexico Principal Meridian

T. 13 S., R. 4 W., NMPM

Sec. 10, lot 1

Containing 5 acres, more or less.

This action will make the land, which is not needed for Federal purposes and is identified for disposal in the White Sands Resource Management Plan, available to support community expansion. Lease or conveyance of the land for recreational or public purpose use would be in the public interest.

Detailed information concerning this action is available for review at the BLM, Las Cruces Field Office, 1800 Marquess, Las Cruces, New Mexico.

Lease or conveyance will be subject to the following terms, conditions, and reservations.

1. Provisions of the R&PP Act and to all applicable regulations of the Secretary of the Interior.

2. All valid existing rights documented on the official public land records at the time of lease/patent issuance.

3. All minerals shall be reserved to the United States, together with the right to prospect for, mine, and remove the minerals.

4. Any other reservations that the authorized officer determines appropriate to ensure public access and proper management of Federal lands and interests therein. Upon publication of this notice in the Federal Register, the land will be segregated from all forms of appropriation under the public land laws, including the general mining laws, except for lease or conveyance under the R&PP Act and leasing under the mineral leasing laws. On or before February 18, 2005, interested persons may submit comments regarding the proposed lease/conveyance or classification of the land to the BLM Las Cruces Field Manager. Any adverse comments will be reviewed by the State Director. In the absence of any adverse comments, the classification will become effective March 7, 2005.

Classification Comments: Interested parties may submit comments involving the suitability of the land for community expansion. Comments on the classification are restricted to whether the land is physically suited for the proposal, whether the use is consistent with local planning and zoning, or if the use is consistent with State and Federal programs.

Application Comments: Interested parties may submit comments regarding the specific use proposed in the application and plan of development, whether the BLM followed proper administrative procedures in reaching the decision, or any other factor not directly related to the suitability of the land for community expansion.

Dated: November 5, 2004.
Tim L. Sanders,
Acting Field Manager, Las Cruces.

[FR Doc. 05-8 Filed 1-3-05; 8:45 am]

BILLING CODE 4310-VC-P